DEPARTMENT OF AGRICULTURE

Forest Service

Mendocino Resource Advisory Committee

AGENCY: Forest Service, USDA.

ACTION: Notice of meeting.

SUMMARY: The Mendocino County Resource Advisory Committee will meet October 30, 2009 (RAC) in Willits, California. Agenda items to be covered include: (1) Approval of minutes, (2) Public Comment, (3) Sub-committees (4) Discussion/Approval of projects (5) Matters before the group-discussion/action (6) Next agenda and meeting date.

DATES: The meeting will be held on October 30, from 9 a.m. to 12 noon.

ADDRESSES: The meeting will be held at the Mendocino County Museum, located at 400 E. Commercial St., Willits, California.

FOR FURTHER INFORMATION CONTACT: Roberta Hurt, Committee Coordinator, USDA, Mendocino National Forest, Covelo Ranger District, 78150 Covelo Road, Covelo, CA 95428. (707) 983-6658; E-Mail windmill@willitsonline.com.

SUPPLEMENTARY INFORMATION: The meeting is open to the public. Persons who wish to bring matters to the attention of the Committee may file written statements with the Committee staff by October 15, 2009. Public comment will have the opportunity to address the committee at the meeting.

Dated: October 10, 2009.
Lee Johnson,
Designated Federal Official.

[FR Doc. E9-25297 Filed 10-20-09; 8:45 am]

BILLING CODE M